ENVIRONMENTAL PROTECTION AGENCY

[FRL-7899-7]

Clean Water Act Section 303(d): Availability of Total Maximum Daily Loads (TMDL)

AGENCY: Environmental Protection Agency (EPA).

ACTION: Notice of availability.

SUMMARY: This notice announces the availability for comment of the administrative record files for 6 TMDLs and the calculations for these TMDLs prepared by EPA Region 6 for waters listed in the Atchafalaya River, Barataria, Lake Pontchartrain, Mississippi River, Sabine River, and Terrebonne Basins of Louisiana, under section 303(d) of the Clean Water Act (CWA). These TMDLs were completed in response to a court order in the lawsuit styled Sierra Club, et al. v. Clifford, et al., No. 96-0527, (E.D. La.). EPA originally proposed draft TMDLs for these segments on December 2, 2004. EPA has decided to withdraw the December 2, 2004, draft TMDLs, and now proposes new draft TMDLs for these segments. Thus, EPA is not responding to those comments on the December 2, 2004, proposed draft TMDLs. EPA will be responding to comments on the new proposed draft TMDLs available herein after public notice.

DATES: Comments must be submitted in writing to EPA on or before May 16, 2005.

ADDRESSES: Comments on the 6 TMDLs should be sent to Diane Smith, Environmental Protection Specialist, Water Quality Protection Division, U.S. Environmental Protection Agency Region 6, 1445 Ross Ave., Dallas, TX 75202-2733, or by email to the following address: Smith.Diane@epa.gov. For further information, contact Diane Smith at (214) 665-2145 or fax (214) 665-7373. TMDL documents from the administrative record files may be viewed at http://www.epa.gov/region6/water/tmdl.htm, or obtained by calling, writing or emailing Ms. Smith at the above addresses. The administrative record files for the 6 TMDLs are available for public inspection at the above address as well. Please contact Ms. Smith to schedule an inspection.

FOR FURTHER INFORMATION CONTACT: Diane Smith at (214) 665-2145.

SUPPLEMENTARY INFORMATION: In 1996, two Louisiana environmental groups, the Sierra Club and Louisiana Environmental Action Network (plaintiffs), filed a lawsuit in Federal Court against EPA, styled Sierra Club, et al. v. Clifford, et al., No. 96-0527, (E.D. La.). Among other claims, plaintiffs alleged that EPA failed to establish Louisiana TMDLs in a timely manner. EPA proposes these TMDLs pursuant to a consent decree entered in this lawsuit.

EPA Seeks Comment on 6 TMDLs

By this notice, EPA is seeking comment on the following 6 TMDLs for waters located within Louisiana basins:

Subsegment | Waterbody name | Pollutant
010901 | Atchafalaya Bay and Delta and Gulf Waters to the State 3-mile Limit | Mercury.
021102 | Barataria Basin Coastal Bays and Gulf Waters to the State 3-mile Limit | Mercury.
042209 | Lake Pontchartrain Basin Coastal Bays and Gulf Waters to the State 3-mile Limit | Mercury.
070601 | Mississippi River Basin Coastal Bays and Gulf Waters to the State 3-mile Limit | Mercury.
110701 | Sabine River Basin Coastal Bays and Gulf Waters to the State 3-mile Limit | Mercury.
120806 | Terrebonne Basin Coastal Bays and Gulf Waters to the State 3-mile Limit | Mercury.

EPA requests that the public provide to EPA any water quality-related data and information that may be relevant to the calculations for the 6 TMDLs. EPA will review all data and information submitted during the public comment period and revise the TMDLs where appropriate. EPA will then forward the TMDLs to the Louisiana Department of Environmental Quality (LDEQ). LDEQ will incorporate the TMDLs into its current water quality management plan.

Dated: April 7, 2005.
Miguel I. Flores,
Director, Water Quality Protection Division, Region 6.

[FR Doc. 05-7507 Filed 4-13-05; 8:45 am]

BILLING CODE 6560-50-P